DEPARTMENT OF TRANSPORTATION

Surface Transportation Board

[Docket No. FD 35339]

Carolina Coastal Railway, Inc.—Acquisition and Operation Exemption—Morehead & South Fork Railroad Co.

AGENCY: Surface Transportation Board.

ACTION: Correction to Notice of Acquisition and Operation Exemption.

SUMMARY: This document corrects a notice served and published in the Federal Register on January 15, 2010 (75 FR 2580), titled “Carolina Coastal Railway, Inc.—Acquisition and Operation Exemption—North Carolina State Ports Authority” to reflect a correction submitted by Carolina Coastal Railway, Inc. (CLNA). CLNA filed a verified notice of exemption under 49 CFR 1150.41 to acquire, by assignment, the lease of Morehead & South Fork Railroad Co., Inc. (MHSF) with North Carolina State Ports Authority (SPA) and to operate approximately 0.87 miles of SPA's rail line. After the effective date of the exemption, CLNA filed a letter on February 16, 2010, notifying the Board that MHSF's counsel has advised CLNA that MHSF is not a party to any lease agreement with SPA and therefore was not assigning a lease to CLNA. Instead, MHSF assigned a freight easement and operating agreement to CNLA.¹ This notice correctly identifies MHSF, instead of SPA, as the regulated party to the transaction, corrects the title, and clarifies what was conveyed. Accordingly, the correct title should read, “Carolina Coastal Railway, Inc.—Acquisition and Operation Exemption—Morehead & South Fork Railroad Co.”

¹ In a previous decision, MHSF acquired the freight easement over all railroad tracks at the Port of Morehead City, N.C., from Carolina Rail Service, LLC. These tracks are owned by SPA. Morehead & South Fork R.R.—Acquis. and Operation Exemption—Carolina Rail Service, LLC, FD 34748 (STB served Sept. 23, 2005).

FOR FURTHER INFORMATION CONTACT: Julia Farr (202) 245-0359 [Federal Information Relay System (FIRS) for the hearing impaired: 1-800-877-8339].

Decided: May 18, 2010.
By the Board, Rachel D. Campbell, Director, Office of Proceedings.
Jeffrey Herzig,
Clearance Clerk.

[FR Doc. 2010-12245 Filed 5-20-10; 8:45 am]

BILLING CODE 4915-01-P